DEPARTMENT OF COMMERCE

International Trade Administration

[A-570-836]

Glycine from the People's Republic of China: Extension of Time Limits for the Preliminary Results of the 2006-2007 Administrative Review

AGENCY: Import Administration, International Trade Administration, Department of Commerce.

EFFECTIVE DATE: November 30, 2007.

FOR FURTHER INFORMATION CONTACT: Cindy Lai Robinson, AD/CVD Operations, Office 9, Import Administration, International Trade Administration, U.S. Department of Commerce, 14th Street and Constitution Avenue, NW, Washington DC 20230; telephone: (202) 482-3797.

Background

On April 27, 2007, the Department published a notice of initiation of antidumping duty administrative review of glycine from the People's Republic of China (“China”), covering the period March 1, 2006, through February 28, 2007. See Initiation of Antidumping and Countervailing Duty Administrative Reviews, 72 FR 20986 (April 27, 2007). The preliminary results for this administrative review are currently due on December 1, 2007.¹ See section 751(a)(3)(A) of the Tariff Act of 1930, as amended (“Act”). The Department is extending the time limit for the completion of the preliminary results of this review by 120 days because it is not practicable to complete the review within this time period. In this review, the Department has encountered complicated affiliation issues, which require further analysis. Such analysis is necessary in order for the Department to obtain accurate information related to sales practices, factors of production, and corporate relationships. In addition, the Department intends to issue additional supplemental questionnaires prior to issuing the preliminary results.

¹ Because December 1, 2007, falls on Saturday, the actual date for the preliminary results will be the next business day, December 3, 2007. See Notice of Clarification: Application of “Next Business Day” Rule for Administrative Determination Deadlines Pursuant to the Tariff Act of 1930, As Amended, 70 FR 24533 (May 10, 2005) (“Next Business Day Rule”).

Given that it is not practicable to complete the review within the statutory time period, and in accordance with section 751(a)(3)(A) of the Act, we are extending the time period for issuing the preliminary results of review by 120 days. Since a 120-day extension would result in the deadline for the preliminary results falling on March 30, 2008, which is Sunday, the new deadline for the final results will be the next business day, March 31, 2008. See Next Business Day Rule. The final results continue to be due 120 days after the publication of the preliminary results.

This notice is published pursuant to section 751(a)(3)(A) and 777(i)(1) of the Act.

Dated: November 23, 2007.
Stephen J. Claeys,
Deputy Assistant Secretary for Import Administration.

[FR Doc. E7-23284 Filed 11-29-07; 8:45 am]

BILLING CODE 3510-DS-S